CONSUMER PRODUCT SAFETY COMMISSION

16 CFR Chapter II

[Docket No. CPSC-2011-0074]

Table Saw Blade Contact Injuries; Advance Notice of Proposed Rulemaking; Request for Comments and Information

AGENCY: Consumer Product Safety Commission.

ACTION: Advance notice of proposed rulemaking.

SUMMARY: The Consumer Product Safety Commission (“CPSC” or “Commission” or “we”) is considering whether a new performance safety standard is needed to address an unreasonable risk of injury associated with table saws. We are conducting this proceeding under the authority of the Consumer Product Safety Act (“CPSA”), 15 U.S.C. 2051-2084. This advance notice of proposed rulemaking (“ANPR”) invites written comments from interested persons concerning the risk of injury associated with table saw blade contact, the regulatory alternatives discussed in this notice, other possible means to address this risk, and the economic impacts of the various alternatives. We also invite interested persons to submit an existing standard, or a statement of intent to modify or develop a voluntary standard, to address the risks of injury described in this ANPR.¹

¹ The Commission voted 5-0 to publish this ANPR in the Federal Register. Chairman Inez M. Tenenbaum and Commissioner Robert Adler issued statements. The Web address for Commissioners' statements is: http://www.cpsc.gov/pr/statements.html.

DATES: Written comments and submissions in response to this notice must be received by December 12, 2011.

ADDRESSES: You may submit comments, identified by Docket No. CPSC-2011-0074, by any of the following methods:

Electronic Submissions

Submit electronic comments in the following way:

Federal eRulemaking Portal: http://www.regulations.gov. Follow the instructions for submitting comments.

To ensure timely processing of comments, the Commission is no longer accepting comments submitted by electronic mail (e-mail) except through www.regulations.gov.

Written Submissions

Submit written submissions in the following way:

Mail/Hand delivery/Courier (for paper, disk, or CD-ROM submissions), preferably in five copies, to: Office of the Secretary, Consumer Product Safety Commission, Room 502, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: Caroleene Paul, Directorate for Engineering Sciences, U.S. Consumer Product Safety Commission, 5 Research Place, Rockville, Maryland 20850; telephone (301) 987-2225; fax (301) 869-0294; e-mail cpaul@cpsc.gov.

SUPPLEMENTARY INFORMATION:

A. Background

On April 15, 2003, Stephen Gass, David Fanning, and James Fulmer, et al. (“petitioners”) requested that we require performance standards for a system to reduce or prevent injuries from contact with the blade of a table saw. The petitioners cited estimates of 30,000 annual injuries involving table saws, with approximately 90 percent of the injuries occurring to the fingers and hands, and 10 percent of the injuries resulting in amputation. The petitioners alleged that current table saws pose an unacceptable risk of severe injury because they are inherently dangerous and lack an adequate safety system to protect the user from accidental contact with the blade.

In the Federal Register of July 9, 2003 (68 FR 40912) and September 5, 2003 (68 FR 52753), we invited comments on the issues raised by the petition (Petition No. CP03-2). We received 69 comments. CPSC staff's initial briefing package regarding the petition is available on the CPSC Web site at http://www.cpsc.gov/library/foia/foia06/brief/tablesaw.pdf. On July 11, 2006, the Commission voted (2-1) to grant the petition and directed CPSC staff to draft an ANPR. On July 15, 2006, the Commission lost its quorum and was unable to move forward with publication of an ANPR at that time. However, CPSC staff continued to evaluate table saws and initiated a special study from January 2007 to December 2008, to gather more accurate estimates on table saw injuries and hazard patterns related to table saw injuries. Based on CPSC staff's updated information on blade contact injuries associated with table saw use, and CPSC staff's evaluation of current technologies on table saws, we believe it is appropriate to issue an ANPR on table saw blade contact injuries at this time. CPSC staff's updated briefing package, which supplements the initial briefing package, is available on the CPSC Web site at http://www.cpsc.gov/library/foia/foia11/brief/tablesaw.pdf.

B. Statutory Authority

We are conducting this proceeding under authority of the Consumer Product Safety Act (“CPSA”). 15 U.S.C. 2051-2084. The Commission believes it has the statutory authority to move forward with this ANPR because table saws that are used by consumers present risks that may not be eliminated or reduced to a sufficient extent by actions undertaken under the Occupational Safety and Health Act. 15 U.S.C. § 2080(a).

Before adopting a CPSA standard, the Commission may issue an ANPR, as provided in section 9(a) of the CPSA. 15 U.S.C. 2058(a). If the Commission decides to continue the rulemaking proceeding after considering responses to the ANPR, the Commission must then publish the text of the proposed rule, along with a preliminary regulatory analysis, in accordance with section 9(c) of the CPSA. 15 U.S.C. 2058(c). If the Commission thereafter moves forward to issue a final rule, in addition to the text of the final rule, it must publish a final regulatory analysis that includes: (1) A description of the potential benefits and costs of the rule; (2) a summary of any alternatives that were considered, their potential costs and benefits, and the reasons for their rejection; and (3) a summary and assessment of any significant issues raised on the preliminary regulatory analysis that accompanied the proposed rule. 15 U.S.C. 2058(f)(2). In addition, the Commission, among other things, must make findings that an existing or proposed voluntary standard would not be adequate, that the benefits of the rule bear a reasonable relationship to its costs, and that the rule is the least burdensome requirement that prevents or adequately reduces the risk of injury. 15 U.S.C. 2058(f)(3).

C. The Product

Table saws are stationary power tools used for the straight sawing of various materials—but primarily wood. In essence, a table saw consists of a table that sits on a base and through which a spinning blade protrudes. To make a cut, the table saw operator places the workpiece on the table, and, typically guided by a rip fence or miter gauge, slides the workpiece into the blade.

There are three basic table saw categories that comprise the population of table saws used for both consumer and professional use: bench saws, contractor saws, and cabinet saws. Generally, the range of quality and accuracy of a table saw is commensurate with its size, motor horsepower, weight, and, indirectly, price.

Bench saws are lightweight, inexpensive saws, designed to be moved around easily and placed temporarily on a work bench or stand. Prices for bench saws range from $100 to $600. Contractor saws are characterized by a set of light-duty legs and a bigger table and motor than a bench saw. Prices for a contractor saw range from about $500 to $1,800, or more. These saws are generally quieter, more accurate, and able to cut materials up to 2 inches thick. Cabinet saws are heavier than contractor saws because the higher powered motor is enclosed in a solid base. Prices for cabinet saws range from $1,000 to $3,000. These saws are designed for heavy use, and the greater weight reduces vibration so that cuts are smooth and more accurate. These saws are typically the highest grade saw found in the home woodworking shop.

Standard safety devices on table saws are designed to prevent the saw blade from making contact with the operator and to prevent the saw blade from imparting its kinetic energy to the workpiece and throwing the workpiece back toward the operator, a phenomenon known as kickback. The configuration and specific design of safety devices vary from manufacturer to manufacturer, but the safety devices generally fall into two basic categories: blade guards and kickback prevention devices.

Traditionally, table saws sold in the United States have employed a blade guard system that combines a hood-type blade guard, splitter (also known as spreader), and anti-kickback pawls as a single unit that is bolted to the saw's carriage assembly. The hood is a single, rectangular piece of transparent plastic that surrounds the exposed blade with a sloped front to allow the guard to rise and ride over the workpiece as the piece is fed toward the blade during a cut. The splitter generally serves as the main support and connection point for the blade guard and the anti-kickback pawls. Thus, removing the splitter for any reason, necessarily removes the rest of the blade guard system and the protections those devices might offer.

Splitters, riving knives, and anti-kickback pawls are the primary safety devices on table saws that are intended to prevent kickback of the workpiece. Splitters ride within the cut, or kerf, to prevent the workpiece from closing up and pinching the blade, which can cause the workpiece to be thrown back toward the operator. Because the height of the splitter is often taller than the blade, splitters must be removed when making non-through cuts because the top portion of the blade must be exposed to cut into the workpiece. If other safety devices are attached to the splitter, removal of the splitter removes these safety devices as well.

Riving knives are curved steel plates that are similar to, and perform the same function as, splitters, but sit very close to the blade and rise no higher than the top of the saw blade. The riving knife attaches to the arbor assembly so that it moves up and down with the blade. These characteristics allow riving knives to be used while making non-through cuts because the top of the blade is exposed. A properly installed riving knife may be the most effective way to prevent kickback because it limits workpiece access to the rear teeth of the saw blade. Anti-kickback pawls consist of two hinged and barbed pieces of metal that allow passage of the workpiece but will dig into the workpiece if it begins to move back toward the operator.

CPSC staff has identified several characteristics of traditional blade guard systems that are likely to hinder table saw use and motivate consumers to remove them to make performing a cut simpler or easier. These characteristics include:

(1) Potential jamming of the workpiece on the guard: Some blade guards may jam on the leading edge of the workpiece, requiring the consumer to push the workpiece forcefully or to raise the guard manually;

(2) Poor visibility caused by the guard: Hood guards can limit visibility when lining up cuts and during a cut, especially with sawdust accumulation in the guard;

(3) Poor splitter alignment with the blade: A splitter can bend over time with use of the table saw. A blade guard system with a splitter that is not aligned properly with the blade can make feeding the workpiece through the blade increasingly difficult and can actually increase the likelihood of kickback; and

(4) Mandatory removal of the blade guard for certain cuts: The splitter and blade guard must be removed for certain oversized cuts, very narrow cuts, and any type of non-through cut. To switch back to typical through cuts, the splitter and guard must be reinstalled in keeping with manufacturers' recommendations that blade guard systems be used whenever performing a through cut.

D. The Market

CPSC staff has identified at least 15 manufacturers and importers of table saws. According to the Power Tool Institute (“PTI”), its members account for approximately 85 percent of all table saws sold in the United States. Most manufacturers are large, diversified, international corporations with billions of dollars in sales, of which table saws generally make up a relatively small part of their revenue. Several other U.S. corporations manufacture or import smaller numbers of table saws for the U.S. market. According to PTI, estimated annual shipments of table saws have fluctuated widely in recent years. In 2006 and 2007, estimated shipments were 800,000 to 850,000 units. However, estimated shipments declined to 650,000 in 2008, 589,000 in 2009, and 429,000 in 2010.

CPSC staff also obtained information from PTI regarding the expected useful life estimates for different categories of table saws, ranging from 6 years for an inexpensive bench saw, to 17 years for a contractor saw, to 24 years for an expensive cabinet saw. Based on these expected product lives and sales data for the different types of saws, PTI estimated the number of table saws in use at 8.0 million in 2001/2002, and 9.5 million in 2007/2008. CPSC staff believes that this estimate is generally consistent with independent estimates of table saws in use, based upon product population estimates using the CPSC's Product Population Model (“PPM”). The PPM is used by CPSC staff to estimate the number of products in use, given sales estimates and information on expected product life. Assuming an average retail price of $500 per table saw, and average annual shipments of about 700,000 units, CPSC staff believes that annual retail sales may be in the range of $300 to $400 million.

CPSC staff also reviewed tariff and trade data from the U.S. Department of Commerce and the U.S. International Trade Commission, which showed that China and Taiwan together account for more than $150 million dollars in annual imports. Allowing for markups of table saws at the manufacturer/private labeler level and the retail level, CPSC staff found that imports may account for a majority of the estimated $300 million to $400 million in shipments estimated. According to CPSC staff, exports from the United States appear to be minimal, less than $1 million annually.

E. Incident Data

CPSC staff first reviewed the National Electric Injury Surveillance System (“NEISS”) data in 2001 and 2002. The data indicated that there were 38,000 total emergency room-treated injuries associated with table saws in 2001, and 38,980 injuries in 2002. In 2001, CPSC staff conducted follow-up investigations on stationary saw-related injuries for NEISS cases treated between October 1, 2001 and December 31, 2001. As a result of the investigations, CPSC staff was able to identify injuries that resulted from previously unspecified saw categories, resulting in more precise injury estimates for 2001 and 2002. Of the 28,300 emergency room-treated injuries in 2001 and 2002 involving table saw operator blade contact, most of the injuries were sustained to the finger(s), and the majority of the injuries were lacerations. Fewer injuries resulted in amputations. The remaining injuries included fractures, avulsions (the forcible separation or tearing away of a part of the body), and crushings.

Since its initial review of table saw blade contact injuries, based on data from NEISS, CPSC staff found that the estimated number of emergency department-treated injuries associated with table saws averaged 36,400 per year from 2001 to 2008. The trend analysis conducted by CPSC staff of the annual estimates for 2001 to 2008, indicated that the number of all saw-related injuries (including table saws, band and radial saws, handheld saws, and saws not specified) was steady during this time.

CPSC staff conducted a follow-up special study on stationary saw-related injuries between January 2007 to December 2008, to gather more accurate estimates on table saw injuries and hazard patterns related to table saw injuries. The special study conducted follow-up interviews on emergency room-treated table saw incidents that were reported through NEISS. The special study allowed more precise table saw injury estimates to be computed for 2007 (38,300 injuries), and 2008 (41,200 injuries). Of the 79,500 total emergency department-treated injuries associated with table saws in 2007 and 2008, an estimated 76,100 injuries were sustained by operators of the table saws. Of the injuries to table saw operators, an estimated 66,900 injuries (88%) involved blade contact, which is the pattern of addressable hazards that this ANPR seeks to address.

CPSC staff estimates that there were approximately 66,900 emergency room-treated injuries involving table saw operator blade contact in 2007 and 2008. Of the 66,900 emergency room-treated injuries involving table saw operator blade contact in 2007 and 2008, the majority (68.5%) of the victims were between the ages of 15 to 64 years old, and 31 percent were 65 years old or older. Among the operator blade contact injuries, laceration was the most frequent (65.9%) form of injury, followed by fractures (12.4%), amputation (12.0%), and avulsion (8.5%). The rate of hospitalization was 7.1 percent, compared to an average 4 percent rate of hospitalization for all consumer products reported through the NEISS system. Because CPSC staff determined that the injury trend associated with all saws has been relatively stable from 2001 and 2008, and they concluded that the results of the special study represented the most accurate estimates available, CPSC staff relied on the data from the special study for 2007 and 2008 to summarize blade contact injuries and their associated hazard patterns.

Of the 66,900 emergency room-treated injuries involving table saw operator blade contact in 2007 and 2008, approximately 20,700 (30.9%) of the injuries occurred on table saws where a blade guard was in use. Approximately 44,500 (66.5%) of the injuries occurred on table saws that did not have a blade guard attached. The most common reason for absence of the blade guard was removal by the consumer (75.0%). An estimated 23,800 injuries (35.5%) occurred as a result of kickback of the material, including scenarios where kickback of the material caused the operator's hand to be pulled into the blade, resulting in a laceration injury or amputation. Of the 23,800 blade contact injuries that occurred as a result of kickback, lacerations were the most frequent (61.2%) form of injury followed by amputations (15.6%), fractures (14.2%), and avulsions (6.5%). The rate of hospitalization was 9.0 percent.

Of the 66,900 emergency room-treated injuries involving table saw operator blade contact in 2007 and 2008, an estimated 39,600 injuries (59.2%) did not occur as a result of kickback of the material. Non-kickback injury scenarios included situations caused by a lapse in attention of the operator, such as reaching over the blade to retrieve a cut piece or otherwise not being aware of the blade during a cut. Of the 39,600 blade contact injuries that did not occur as a result of kickback, lacerations were the most frequent (69.4%) form of injury, followed by fractures (11.0%), amputations (9.5%), and avulsions (9.5%). The rate of hospitalization was 5.0 percent. CPSC staff did not find sufficient information regarding whether kickback caused operator contact with the blade in approximately 3,500 of the 66,900 operator blade contact injuries.

F. Economic Considerations

The Commission's Injury Cost Model (“ICM”) uses empirically derived relationships between emergency department injuries estimated through NEISS and injuries treated in other settings (e.g., doctor's offices, clinics) to estimate the number of injuries treated outside hospital emergency departments. Based on CPSC's 2007-2008 special study, staff estimated that approximately 33,450 emergency department-treated blade contact injuries occurred annually over the 2-year period 2007-2008. From these 33,450 annual injuries, the ICM projects an annual total of 67,300 medically treated blade contact injuries with an associated injury cost of approximately $2.36 billion per year. CPSC staff determined that deaths resulting from blade contact during table saw use are rare and appear to be the result of secondary effects of the injuries (e.g., heart attack) rather than the injuries themselves. Accordingly, economic costs from deaths have been excluded.

CPSC staff's preliminary review showed that societal costs per blade contact injury amount to approximately $35,000. This includes costs for medical treatment, lost time from work, product liability litigation, and pain and suffering. The relatively high societal costs, compared to the $22,000 average cost for all medically treated consumer product related injuries, reflect the high costs associated with amputations and the relatively high hospitalization rate associated with these injuries.

CPSC staff's preliminary review also showed that the expected present value of the societal costs of blade contact injuries over the life of a table saw is substantial. Therefore, an effective performance-based table saw standard potentially could result in significant reductions in the injury costs associated with blade contact. However, current systems designed to address blade contact injuries on table saws appear to be costly and could substantially increase the retail cost of table saws, especially among the least expensive bench saws.

G. Existing Standards

The current U.S. voluntary consensus standard for table saws is the seventh edition of UL 987, Stationary and Fixed Electric Tools. Underwriters Laboratories Inc. (“UL”) published this standard in 1971, and has revised it several times. The original requirement for table saw guarding specified a complete guard that consisted of a hood, a spreader, and some type of anti-kickback device. The requirement further specified that the guard hood completely enclose the sides and top portion of the saw blade above the table and that the guard automatically adjust to the thickness of the workpiece. A blade guard that met this requirement was typically a hinged, rectangular piece of clear plastic.

The sixth edition of UL 987, published in January 2005, added design and performance requirements for a riving knife and performance requirements for anti-kickback devices. This revision essentially required new table saws to employ a permanent riving knife that was adjustable for all table saw operations. The requirement also allowed for riving knife/spreader combination units, where the riving knife could be used as the attachment point for a blade guard during through cuts. The effective date for the riving knife requirement is January 31, 2014, for currently listed products, and January 31, 2008, for new products submitted for listing to the UL standard.

The current edition, the seventh edition of UL 987, published in November 2007, expanded the table saw guarding requirements to include descriptions of a new modular blade guard design developed by a joint venture of the leading table saw manufacturers. The revised standard specified that the blade guard shall consist not of a hood, but of a top-barrier guarding element and two side-barrier guarding elements. The new modular guard design was intended to be an improvement over traditional hood guard designs by providing better visibility, being easier to remove and install, and incorporating a permanent riving knife design. The revised standard also specified detailed design and performance requirements for the modular blade guard, riving knife, and anti-kickback device(s). The effective date for the new requirements was January 31, 2010.

The Occupational Safety and Health Administration (“OSHA”) currently has regulations on table saws used in the workplace, which are codified at 29 CFR 1910.213, Woodworking Machinery Requirements. The OSHA regulations require that table saws in the workplace include a blade guard, a spreader, and an anti-kickback device. 29 CFR 1910.213(c)(1)-(3). The OSHA regulations require the saw be guarded by a hood with certain performance standards including, among other things, requirements that the hood be strong enough to withstand certain pressures, be adjustable to the thickness of the material being cut, and be constructed in a way to protect the operator from flying splinters and broken saw teeth. 29 CFR 1910.213(c)(1). The OSHA regulations also require inspection and maintenance of woodworking machinery. For example, unsafe saws must be removed from service immediately, push sticks or push blocks must be provided at the workplace for guiding or pushing material past the blade, and emphasis must be placed on the cleanliness around woodworking machinery and, in particular, the effective functioning of guards and prevention of fire hazards. 29 CFR 1910.213(s).

CPSC staff found that the primary differences between consumer and professional users of table saws are environment and training/experience. In many work production environments where a specific cut is performed continuously, guards and safety cut-off switches are custom designed for that set up. The area is specifically designed to be as safe as possible and safety is a continuous focus through warning/instruction signs and posters that are often displayed throughout the work area. The workplace is also subject to spontaneous inspection by OSHA inspectors; therefore, the prospect of being fined for safety violations increases the likelihood that workers or supervisors will help ensure safety codes are followed. In addition, professional woodworkers are in an industrial setting where employees often receive training on safety practices and in the proper use of the tool. Professional woodworkers are more likely to have had training and to be experienced in performing any special or complex operations with the saw and are more likely to recognize situations and set-ups that may be dangerous or require extra care and caution.

Amateur woodworkers generally have little or no safety training, nor training in the proper use of the table saw. They may take woodworking classes or watch a training video, but the home users typically have far less experience than professional woodworkers and may discover dangerous or difficult operations only by actually experiencing near accidents or problems. The home woodworker also does not have the same OSHA-regulated protections in the home-based woodshop. The focus on a safe environment in a consumer setting is dependent upon the knowledge and initiative of the home woodworker, but there is no oversight to educate and motivate the consumer to prepare as safe an environment as possible.

CPSC staff also reviewed the 2007-2008 special study of table saw-related injury estimates to assess whether they were work-related. Narratives and responses in the 862 cases in the table saw study were reviewed to identify cases that might be work-related. Four of the cases appeared to be work-related, and another 12 cases appeared to be potentially work-related. Combined, these cases comprised less than 2 percent of the sample data and less than 2 percent of the estimated 79,500 total table or bench saw injuries over the two years 2007-2008. The remaining 846 cases in the special study represented an estimated 78,000 non-work-related injuries.

We believe that OSHA regulations may not adequately reduce the risk of operator blade contact injuries to consumers because these regulations are primarily intended to ensure a safer work environment in the professional workplace setting, rather than the home woodworking environment. OSHA regulations rely on a comprehensive approach to promote safe practices in the workplace. These strategies include training and outreach, as well as mandatory safety standards and enforcement. This approach would not be available to consumers operating table saws in a home woodworking environment. CPSC staff's review showed that less than 2 percent of the estimated 79,500 total table or bench saw injuries over the 2007-2008 period appear to be work-related. Moreover, we note that the OSHA regulations for guarding are essentially identical to the requirements in the now superseded fifth edition of the voluntary standard for table saws, UL 987, Standard for Stationary and Fixed Electric Tools. Accordingly, the existing OSHA regulations for table saws do not reflect the latest revisions to UL 987, which require riving knives and the new modular blade guard design developed by the table saw industry. However, even if OSHA incorporates the new UL requirements in its regulations, we believe that current safety devices still may not adequately address the operator blade contact injuries associated with table saw use by consumers.

H. Regulatory Alternatives

One or more of the following alternatives could be used to reduce the identified risks associated with table saw blade contact injuries:

1. Voluntary Standard. If the industry developed, adopted, and substantially conformed to an adequate voluntary standard, we could defer to the voluntary standard, instead of issuing a mandatory rule. The current voluntary standard for table saws includes requirements for a splitter/spreader, blade guard, and anti-kickback device to address the hazard posed by contact with the saw blade. The voluntary standards body only recently has begun to review requirements for a riving knife that may reduce certain kickback conditions that can result in unexpected blade contact. However, a riving knife would not address the blade contact injuries that were not caused by kickback of the material, an estimated 39,600 injuries in 2007 and 2008.

CPSC staff evaluated two new technologies that have been introduced to the table saw market since 2007 to address blade contact injury. Technologies that address blade contact injuries on table saws can be categorized by their main purpose: (1) Prevention of the event, and (2) mitigation of the event.

In 2007, a joint venture of the leading table saw manufacturers introduced a new modular blade guard design to the market. The new modular guard, like traditional blade guard systems, is aimed at preventing the event of blade contact. In general, traditional blade guards and the new modular blade guards can effectively prevent most physical side, rear, and downward contact with the table saw blade but will primarily act as a tactile warning for front approach contact with the blade. The new modular blade guard system appears to be a significant improvement over most traditional blade guard systems because it uses a permanent, adjustable riving knife, rather than a removable splitter, as the primary kickback prevention device and support for the guard. However, the new blade guard system still would not prevent blade contact injuries resulting from the hand approaching the front, or leading portion, of the blade. Furthermore, the new blade guard system still can hinder certain table saw tasks, thereby encouraging its removal, and it can prevent certain sawing tasks from being performed unless it is removed. CPSC staff's review showed that removing the blade guard system is easy but installation can be tricky and, if the process is repeated, it can also be time-consuming and burdensome. These characteristics may motivate some consumers—especially experienced or expert woodworkers—not to bother reinstalling the system once it is removed.

In 2008, the petitioners developed a contractor saw with a blade contact detection and reaction system that was introduced to the table saw market as the SawStop system. Blade contact detection and reaction systems function as a secondary safety system to mitigate the event of blade contact. The system is not intended to prevent table saw blade contact incidents, but rather, to lessen the consequences of blade contact when it occurs. The SawStop system includes two components: An electronic detection unit, and a brake. The system induces a small electrical signal onto the saw blade that is partially absorbed by the human body if contact is made. When this reduction in signal is detected, the system applies a brake to the blade that stops and retracts the blade below the table surface within milliseconds. In principle, the only injury likely to be sustained by direct contact with the saw blade when the system functions as intended is a small cut.

The SawStop system reviewed by CPSC staff did not seem to interfere with most sawing operations, and, once installed, the system is essentially invisible to the consumer until it is needed. If the system is activated or the standard 10-inch blade needs to be replaced with a smaller dado blade (a type of saw blade used to cut grooves), the brake cartridge underneath the table surface must be replaced. Removing and reinstalling the brake cartridge when switching to and from dado sets, or once the system has been activated, can be difficult. However, in all likelihood, system activation would occur only after contact with the skin, a situation in which the consumer might have sustained serious injury had the system not been in place.

We are concerned that the requirements in the voluntary standard for table saws, UL 987, Stationary and Fixed Electric Tools, which mandate a permanent riving knife and the new modular blade guard system, may not adequately address the operator blade contact injuries associated with table saw use. While we support the recent progress UL has made in improving the voluntary standard to address blade contact injuries by focusing solely on prevention of skin-to-blade contact, the standard requirements do not appear to address adequately the number or severity of blade contact injuries that occur on table saws, nor do they address the associated societal costs. In addition, while we believe that the new modular guard design is a significant improvement over the old guard design, the effectiveness of any blade guard system depends upon an operator's willingness to use it. Safety equipment that hinders the ability to operate the product likely will result in consumers bypassing, avoiding, or discarding the safety equipment. In addition, of the 66,900 table saw operator blade contact injuries in 2007 and 2008, approximately 20,700 (30.9%) of the injuries occurred on table saws where the blade guard was in use. The current voluntary standard for table saws does not appear to address those types of injuries. Accordingly, we are particularly interested in obtaining information regarding current or developing voluntary standards that would address table saw blade contact injuries.

2. Mandatory rule. We could issue a rule mandating performance requirements on table saws that would address blade contact injuries.

3. Labeling rule. We could issue a rule requiring specified warnings and instructions to address table saw blade contact injuries.

I. Request for Information and Comments

This ANPR is the first step in a proceeding that could result in a mandatory safety standard for table saws to address the risk of injury associated with blade contact from table saws. We invite interested persons to submit their comments on any aspect of the alternatives discussed above in part H of this document. In particular, we request the following additional information:

1. Written comments with respect to the risk of injury identified by the Commission, the regulatory alternatives being considered, and other possible alternatives for addressing the risk;

2. Any existing standard or portion of a standard that could be issued as a proposed regulation;

3. A statement of intention to modify or develop a voluntary standard to address the risk of injury discussed in this notice, along with a description of a plan (including a schedule) to do so;

4. Studies, tests, or surveys that have been performed to analyze table saw blade contact injuries, severity of injuries, and costs associated with the injuries;

5. Studies, tests, or surveys that analyze table saw use in relation to approach/feed rates, kickback, and blade guard use and effectiveness;

6. Studies, tests, or descriptions of new technologies, or new applications of existing technologies that can address blade contact injuries, and estimates of costs associated with incorporation of new technologies or applications;

7. Estimated manufacturing cost, per table saw, of new technologies or applications that can address blade contact injuries;

8. Expected impact of technologies that can address blade contact injuries on wholesale and retail prices of table saws;

9. Expected impact of technologies that can address blade contact injuries on utility and convenience of use;

10. Information on effectiveness or user acceptance of new blade guard designs;

11. Information on manufacturing costs of new blade guard designs;

12. Information on usage rates of new blade guard designs;

13. Information on U.S shipments of table saws prior to 2002, and between 2003 and 2005;

14. Information on differences between portable bench saws, contractor saws, and cabinet saws in frequency and duration of use;

15. Information on differences between saws used by consumers, saws used by schools, and saws used commercially in frequency and duration of use;

16. Studies, research, or data on entry information of materials being cut at blade contact (i.e., approach angle, approach speed, and approach force);

17. Information that supports or disputes preliminary economic analyses on the cost of employing technologies that reduce blade contact injuries on table saws;

18. Studies, research, or data on appropriate indicators of performance for blade-to-skin requirements that mitigate injury;

19. Studies, research, or data that validates human finger proxies for skin-to-blade tests;

20. Studies, research, or data on detection/reaction systems that have been employed to mitigate blade contact injuries;

21. Studies, research, or data on the technical challenges associated with developing new systems that could be employed to mitigate blade contact injuries;

22. Studies, research, or data on guarding systems that have been employed to prevent or mitigate blade contact injuries;

23. Studies, research, or data on kickback of a workpiece during table saw use;

24. The costs and benefits of mandating a labeling or instructions requirement; and

25. Other relevant information regarding the addressability of blade contact injuries.

Comments and other submissions should be identified by identified by Docket No. CPSC-2011-0074 and submitted in accordance with the instructions provided above. All comments and other submissions must be received by December 12, 2011.

Dated: October 5, 2011.
Todd A. Stevenson,
Secretary, Consumer Product Safety Commission.

[FR Doc. 2011-26171 Filed 10-7-11; 8:45 am]

BILLING CODE 6355-01-P